NUCLEAR REGULATORY COMMISSION

2 CFR Part 2000

5 CFR Part 5801

10 CFR Chapter I

[NRC-2015-0122]

RIN 3150-AJ61

Formatting and Non-Substantive Corrections to Authority Citations

AGENCY: Nuclear Regulatory Commission.

ACTION: Final rule.

SUMMARY: The U.S. Nuclear Regulatory Commission (NRC) is amending its regulations to better adhere to the Office of Federal Register's (OFR) guidance for formatting authority citations. The NRC is also correcting typographical errors and making other non-substantive corrections to its authority citations. This final rule creates no new requirements and does not alter any right or obligation for persons or entities regulated by the NRC.

DATES: This rule is effective on September 9, 2015.

ADDRESSES: Please refer to Docket ID NRC-2015-0122 when contacting the NRC about the availability of information for this action. You may obtain publicly-available information related to this action by any of the following methods:

• Federal Rulemaking Web site: Go to http://www.regulations.gov and search for Docket ID NRC-2015-0122. Address questions about NRC dockets to Carol Gallagher, telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Cindy Bladey, Office of Administration, U.S. Nuclear Regulatory Commission, Washington, DC 20555-0001, telephone: 301-415-3280, email: Cindy.Bladey@nrc.gov.

SUPPLEMENTARY INFORMATION:

I. Introduction

Section 553 of the Administrative Procedure Act states that when an agency issues notice of a proposed rulemaking, the agency must include “reference to the legal authority under which the rule is proposed” (5 U.S.C. 553). The OFR has published regulations in Chapter I of Title 1 of the Code of Federal Regulations (CFR) explaining how authority citations should be formatted in the CFR when final rules are codified (1 CFR part 21). The OFR also provides guidance on the proper formatting of statutory and nonstatutory authority citations in its Federal Register Document Drafting Handbook (October 1998 Revision).¹

¹ See http://www.archives.gov/federal-register/write/handbook/ddh.pdf.

The NRC is amending its regulations in Chapter I of 10 CFR; Chapter XX of 2 CFR, the NRC's policies and procedures for nonprocurement debarment and suspension; and Chapter XLVIII of 5 CFR, the supplemental standards of ethical conduct for NRC employees; to better conform to the OFR's regulations and guidance for the formatting of authority citations. These non-substantive formatting amendments will shorten the NRC's authority citation sections and provide the public with clearer and simpler references to the NRC's statutory and nonstatutory authority. The NRC is also making certain corrections and amendments to the authority citations of these regulations to fix typographical errors, add missing authority citations, or remove redundant authority citations. This rulemaking is corrective in nature and only serves to reformat or clarify already-existing NRC authority citations. This rule does not create any new requirements for NRC stakeholders, nor does it alter any existing right, obligation, or prohibition for persons or entities regulated by the NRC.

II. Summary of Changes

The amendments made in this rule are divided into two categories: Generic formatting changes and part-specific corrections. The generic formatting changes are described in this section, with a list of every CFR part subject to each generic formatting change. Amendments made in this rule that do not fall within the scope of the generic formatting changes are discussed in the part-specific technical corrections section. Such changes are identified within each part with a description of the reason for the change.

A. Generic Formatting Changes

(1) Formatting of authority citations for NRC Significant Statutes. The OFR's guidance states that statutory authority citations should only use the United States Code (U.S.C.) citation and not the popular name of a public law (e.g., “Atomic Energy Act of 1954”). However, the NRC has historically cited to sections of the agency's organic statutes by popular name, as well as other significant statutes by popular name, in addition to the U.S.C. citation. The NRC's stakeholders are more familiar with these references than their accompanying U.S.C. citations. The NRC has received permission from the OFR to cite to the seven significant statutes identified in Table 1 of this document by the statute's popular name as well as the U.S.C. citation (ADAMS Accession No. ML14265A100). These citations will now include the popular name of the statute (derived from the Popular Names Tool of the Office of the Law Revision Counsel, U.S. House of Representatives) ² followed by the applicable sections of the statute as codified in the U.S.C.

² See http://uscode.house.gov/popularnames/popularnames.pdf.

Table 1—Significant Statutes for the NRC and Their Citation in Federal Register Authority Citations for Regulations
Statute name | Federal Register citation format
Atomic Energy Act of 1954 | Atomic Energy Act of 1954, [statute section; U.S.C. citation].
Energy Reorganization Act of 1974 | Energy Reorganization Act of 1974, [statute section; U.S.C. citation].
Nuclear Waste Policy Act of 1982 | Nuclear Waste Policy Act of 1982, [statute section; U.S.C. citation].
Low-Level Radioactive Waste Policy Amendments Act of 1985 | Low-Level Radioactive Waste Policy Amendments Act of 1985, [statute section; U.S.C. citation].
Uranium Mill Tailings Radiation Control Act of 1978 | Uranium Mill Tailings Radiation Control Act of 1978, [statute section; U.S.C. citation].
Administrative Procedure Act | Administrative Procedure Act, [U.S.C. citation].
National Environmental Policy Act of 1969 | National Environmental Policy Act of 1969, [U.S.C. citation].

The following CFR parts are being amended consistent with this generic formatting change: 5 CFR part 5801; 10 CFR parts 1, 2, 4, 7, 9, 10, 11, 14, 15, 16, 19, 20, 21, 25, 26, 30, 31, 32, 33, 34, 35, 36, 37, 39, 40, 50, 51, 52, 54, 55, 60, 61, 62, 63 70, 71, 72, 73, 74, 75, 76, 81, 95, 100, 110, 140, 150, 160, 170, and 171.

(2) Removing popular names and public law numbers of non-significant statutes. All authority citations with references to the popular names of statutes not listed in Table 1 of this document are revised to cite only the appropriate U.S.C. section, in conformance with OFR guidance. For example, all citations to the “Government Paperwork Elimination Act,” which provided agencies with authority to accept electronic submissions and signatures as a substitute for paper where practicable, is now cited throughout 10 CFR as “44 U.S.C. 3504 note.”

Additionally, all references to public law numbers or U.S. Statutes at Large are being removed except where U.S.C. citations do not exist (for example, appropriations laws), in conformance with OFR guidance. The following CFR parts are being amended consistent with this generic formatting change: 5 CFR part 5801; 10 CFR parts 2, 4, 9, 11, 12, 13, 14, 15, 16, 19, 20, 21, 25, 26, 30, 31, 32, 33, 34, 35, 36, 39, 40, 50, 51, 52, 54, 55, 60, 61, 62, 63, 70, 71, 72, 73, 74, 75, 76, 81, 95, 100, 110, 140, 150, 170, and 171.

(3) Relocation of specific “also issued” citations for significant statutes. The OFR's guidance states that agencies may provide authority citations for particular subparts or particular sections within the central authority citation for a CFR part (e.g., “Section 30.7 also issued under 42 U.S.C. 5851”). However, this practice is optional and has in some cases led to lengthy authority citation sections that are difficult to read and comprehend. Additionally, these specific “also issued” citations often restate authorities that are already cited for the whole part in the central authority citation, making them redundant. In an effort to provide more concise and clear authority citations, the NRC is no longer using specific “also issued” citations that reference any of the significant statutes listed in Table 1 of this document. These authority citations will be reflected generally in the central authority citation. However, the NRC will still use specific “also issued” citations that reference authorities not listed in Table 1 of this document, when appropriate. The NRC's stakeholders are less likely to be familiar with such authority, making these specific references more beneficial for the public. The following CFR parts are being amended consistent with this generic formatting change: 10 CFR parts 2, 4, 9, 19, 21, 30, 34, 40, 50, 51, 55, 70, 72, 73, 75, 76, 110, and 150.

(4) Revising or removing all citations to the Energy Policy Act. The Energy Policy Act of 2005, Public Law 109-58, 119 Stat. 594 (2005) (EPAct) is referenced in authority citations throughout 10 CFR. However the EPAct amended certain provisions of the Atomic Energy Act of 1954, the Energy Reorganization Act of 1974, and the Low-Level Radioactive Waste Policy Amendments Act of 1985, among other statutes. The EPAct is not in and of itself a substantive organic statute, but instead is reflected in the amended portions of other statutes. In many cases these statutes already are contained in the authority citation, making the reference to the EPAct redundant. Reference to the EPAct is inconsistent with OFR guidance, which states that popular names of statutes or public law numbers should not be used if the law has been codified in the U.S.C. Therefore, consistent with OFR guidance, all citations to the EPAct have been converted to the corresponding citations of the statute amended by the EPAct, unless the corresponding citations are already included within the central authority citation. Additionally, citations to the EPAct have been removed entirely in some parts, where appropriate; these removals are identified and explained in the Section B, “Part-specific Corrections,” of this section. The following CFR parts are being amended consistent with this generic formatting change: 10 CFR parts 20, 30, 31, 32, 33, 34, 35, 36, 40, 50, 52, 60, 61, 62, 63, 70, 71, 72, 73, 76, 110, 140, 150, 170, and 171.

(5) Reformatting citations to Executive Orders. Consistent with OFR guidance, authority citations that reference Executive Orders now include a Federal Register citation, as well as a CFR citation. Also, typographical errors in page numbers are being corrected. Executive Orders in the following CFR parts are being amended consistent with this generic formatting change: 2 CFR part 2000; 5 CFR part 5801; 10 CFR parts 10, 15, 25, 54, and 95.

B. Part-Specific Corrections

The following discussion contains a list of the changes made to each authority citation section by this rulemaking that does not fall within the scope of the generic changes previously described, and the reasons for each change.

2 CFR Part 2000

Remove from citation. The reference “10 U.S.C. 113” is removed. Section 113 provides authority to the U.S. Department of Defense, not the NRC.

10 CFR Part 1

Revise citation. The citation “45 FR 40561, June 16, 1980” is removed and replaced with “5 U.S.C. Appendix (Reorganization Plans)” to properly cite to the correct portion of this appendix in the U.S. Code.

Add to citation. A reference to “Atomic Energy Act of 1954, sec. 25 (42 U.S.C. 2035)” is added. Section 25 created the Office of the General Counsel, which is specifically referenced in 10 CFR part 1.

10 CFR Part 2

Add to citation. A reference to “Atomic Energy Act of 1954, sec. 182 (42 U.S.C. 2232)” is added. Section 182 provides authority for the Commission to require written statements from applicants or licensees in order to determine whether an application should be granted or denied or whether a license should be modified or revoked, and to require such statements to be made under oath or affirmation. This section provides authority for 10 CFR 2.204, “Demand for Information.”

A reference to “Atomic Energy Act of 1954, sec. 187 (42 U.S.C. 2237)” is added. Section 187 provides authority for the Commission to modify terms and conditions of all licenses, and provides authority for 10 CFR part 2, subpart B, “Procedure for Imposing Requirements by Order, or for Modification, Suspension, or Revocation of a License, or for Imposing Civil Penalties.”

10 CFR Part 4

Revise citation. The two specific references to “29 U.S.C. 794” are removed and replaced with one reference to the statute in the central authority citation to avoid redundancy.

The reference to “42 U.S.C. 6101” is revised to “42 U.S.C. 6101 through 6107” to properly cite to the entirety of Title III of the Age Discrimination Act.

Remove from citation. The reference to “29 U.S.C. 706(6)” is removed because it is a typographical error.

10 CFR Part 7

Revise citation. The reference to “5 U.S.C. App.” is revised to “5 U.S.C. Appendix (Federal Advisory Committee Act)” for properly cite to the correct portion of this appendix in the U.S. Code.

10 CFR Part 11

Add to citation. A reference to “Atomic Energy Act of 1954, sec. 223” is added to provide authority for the “Criminal penalties” section.

10 CFR Part 13

Revise citation. The reference to “Sections 13.13(a) and (b)” is revised to “Section 13.13” to shorten and simplify the authority citation.

Add to citation. A reference to “31 U.S.C. 3730” is added to the specific authority citation for Section 13.13 because the statute is explicitly referenced and relied upon in that section.

10 CFR Part 14

Revise citation. The reference to “Government Paperwork Elimination Act” is removed and replaced with “Atomic Energy Act of 1954” to correct a citation error.

Add to citation. A reference to “Energy Reorganization Act of 1974, sec. 201 (42 U.S.C. 5841)” is added. The Energy Reorganization Act of 1974 abolished the Atomic Energy Commission and created the NRC, and transferred all licensing and related regulatory functions from the former to the latter including the authority to conduct rulemaking under Section 161 of the Atomic Energy Act. Therefore, in any authority citation section that includes Section 161 of the Atomic Energy Act, it is appropriate to also include Section 201 of the Energy Reorganization Act to reflect this transfer.

10 CFR Part 19

Remove from citation. The reference to “Atomic Energy Act of 1954 sec. 186 (42 U.S.C. 2236)” is removed because it is redundant. Section 186 authorizes the Commission to revoke licenses. The NRC already references Section 186 as authority in 10 CFR parts that provide for the issuance of licenses. References to Section 186 in all 10 CFR parts within which a violation could possibly result in a license revocation is redundant, given that the 10 CFR parts that provide for the issuance of licenses already inform applicants and licensees that their licenses may be revoked for the reasons listed in Section 186, including, in part, for failure to observe any of the terms and provisions of the Atomic Energy Act or the Commission's regulations.

Add to citation. A reference to “Atomic Energy Act of 1954, sec. 223” is added to provide authority for the “Criminal penalties” section.

10 CFR Part 20

Remove from citation. The reference to “Atomic Energy Act of 1954 sec. 186 (42 U.S.C. 2236)” is removed because it is redundant. Section 186 authorizes the Commission to revoke licenses. The NRC already references Section 186 as authority in 10 CFR parts that provide for the issuance of licenses. References to Section 186 in all 10 CFR parts within which a violation could possibly result in a license revocation is redundant, given that the 10 CFR parts that provide for the issuance of licenses already inform applicants and licensees that their licenses may be revoked for the reasons listed in Section 186, including, in part, for failure to observe any of the terms and provisions of the Atomic Energy Act or the Commission's regulations.

The reference to “Energy Reorganization Act of 1974 sec. 206 (42 U.S.C. 5846)” is removed. Section 206 requires individual directors or responsible officers of firms constructing, owning, operating, or supplying components for any facility or activity licensed or regulated by the NRC to report defects or failures to comply that may create substantial safety hazards. Part 20 of 10 CFR establishes the standards for protection against ionizing radiation resulting from activities conducted under licenses issued by the NRC. While a defect or failure to comply under Section 206 could result in a violation of 10 CFR part 20 standards, the substantive authority for the promulgation of 10 CFR part 20 is the Atomic Energy Act.

10 CFR Part 21

Add to citation. References to Atomic Energy Act of 1954, secs. 53, 63, 81, 103, and 104 (42 U.S.C. 2073, 2093, 2111, 2133, and 2134) are added. These statutes provide the Commission with authority to license special nuclear material, source material, byproduct material, commercial utilization or production facilities, and utilization facilities for use in medical therapy and research and development, respectively. These statutes also authorize the Commission to issue these licenses subject to such conditions that the Commission may establish by rule or regulation. Part 21 of 10 CFR applies to facilities and activities licensed under other 10 CFR parts that are authorized by these statutes (including but not limited to 10 CFR parts 30, 40, 50, 52, and 70). Therefore, including these statutes within the 10 CFR part 21 authority citation provides a more complete illustration of the Commission's authority to subject various licensees to 10 CFR part 21.

10 CFR Part 26

Remove from citation. The references to “Atomic Energy Act of 1954 sec. 81” and “42 U.S.C. 2112” are removed because these sections are inapplicable to this part.

The reference to “Energy Reorganization Act of 1974 sec. 206 (42 U.S.C. 5846)” is removed. Section 206 requires individual directors or responsible officers of firms constructing, owning, operating, or supplying components for any facility or activity licensed or regulated by the NRC to report defects or failures to comply that may create substantial safety hazards. Part 26 of 10 CFR establishes the requirements and standards for establishing, implementing, and maintaining a fitness for duty program. While the same licensed activity can be subject to both 10 CFR part 26 fitness for duty requirements and Section 206 reporting requirements, the substantive authority for the promulgation of 10 CFR part 26 is the Atomic Energy Act. The NRC is now referencing Section 206 only in the authority citations of the 10 CFR parts listed in § 21.2, “Scope.”

10 CFR Part 30

Remove from citation. The reference to “Atomic Energy Act of 1954 sec. 82 (42 U.S.C. 2112)” is removed. Section 82 provides authority for the foreign distribution of byproduct material. However, 10 CFR part 30 applies to domestic licensing. Section 82 is instead appropriately referenced in 10 CFR part 110, “Export and import of nuclear equipment and material.”

10 CFR Parts 31, 32, 33, 34, 35, and 36

Remove from citation. The reference to “42 U.S.C. 2014” is removed. Section 2014 (Section 11 of the Atomic Energy Act of 1954) was added to the authority citation as part of the citation to Section 651(e) of the EPAct. The EPAct amended the definition of byproduct material in the Atomic Energy Act; however this revised definition of byproduct material is incorporated into the definitions of 10 CFR part 30, which encompasses licensees under these parts. Part 30 of 10 CFR already references 42 U.S.C. 2014 as authority. Therefore, it is redundant to cite to the statute in these parts. Similarly, the reference to “42 U.S.C. 2021b” is removed from these parts. This section (Section 2 of the Low-Level Radioactive Waste Policy Amendments Act of 1985) was also added to the authority citation as part of the citation to Section 651(e) of the EPAct, and is unnecessary in the authority citation for these parts.

The reference to “42 U.S.C. 5842” in 10 CFR part 35 is removed because this is a typographical error.

The reference to “Atomic Energy Act of 1954 sec. 82 (42 U.S.C. 2112)” in 10 CFR part 36 is removed because Section 82 authorizes the foreign distribution of byproduct material and is inapplicable to this part. The reference to “Atomic Energy Act of 1954 sec. 186 (42 U.S.C. 2236)” in 10 CFR part 36 is removed because it is redundant. This section authorizes the Commission to revoke licenses. However, 10 CFR part 36 licensees are subject to the provisions of 10 CFR part 30, which already states that a license issued under 10 CFR parts 31 through 36 and 39 may be revoked (10 CFR 30.61), and the authority citation for 10 CFR part 30 already includes Section 186. Lastly, the reference to “Energy Reorganization Act of 1974 sec. 202 is (42 U.S.C. 5842)” in 10 CFR part 36 is removed because the statute is inapplicable to this part.

Add to citation. A reference to “Energy Reorganization Act of 1974, sec. 206 (42 U.S.C. 5846)” is added to 10 CFR part 31. Section 206 provides authority for 10 CFR part 21. The general license provided in § 31.8 is subject to the provisions of 10 CFR part 21.

10 CFR Part 37

Add to citation. A reference to “Atomic Energy Act of 1954, sec. 11 (42 U.S.C. 2014)” is added. Section 11 is being added in order to be consistent with other parts of 10 CFR that have similarly incorporated the definition of “byproduct material,” as revised by the EPAct, that provides the Commission authority to determine new sources of byproduct material if statutory criteria are met.

References to Energy Reorganization Act of 1974, secs. 201 and 202 (42 U.S.C. 5841 and 5842) are added. The Energy Reorganization Act of 1974 abolished the Atomic Energy Commission and created the NRC, and transferred all licensing and related regulatory functions from the former to the latter including the authority to conduct rulemaking under Section 161 of the Atomic Energy Act. Therefore, in any authority citation section that includes Section 161 of the Atomic Energy Act, it is appropriate to also include Section 201 of the Energy Reorganization Act to reflect this transfer. A reference to “Section 202” is added because 10 CFR part 37 applies to the facilities listed in that statute if the licensee possesses an aggregated category 1 or category 2 quantity of radioactive material. This is reflected in the definition of “Person” in 10 CFR 37.5.

A reference to “44 U.S.C. 3504 note” is added because 10 CFR part 37 provides for the use of electronic submissions, as authorized by the Government Paperwork Elimination Act.

10 CFR Part 39

Remove from citation. The reference to “Atomic Energy Act of 1954 sec. 82 (42 U.S.C. 2112)” is removed because this section authorizes the foreign distribution of byproduct material and is inapplicable to this part.

The reference to “Atomic Energy Act of 1954 sec. 186 (42 U.S.C. 2236)” is removed because it is redundant. Section 186 authorizes the Commission to revoke licenses. However, 10 CFR part 39 licensees are subject to the provisions of 10 CFR part 30, which already states that a license issued under 10 CFR parts 31 through 36 and 39 may be revoked (10 CFR 30.61), and the authority citation for 10 CFR part 30 already includes Section 186.

The reference to “Energy Reorganization Act of 1974 sec. 202” is removed because it is inapplicable to this part.

10 CFR Part 40

Add to citation. A reference to “Atomic Energy Act of 1954, sec. 69 (42 U.S.C. 2099)” is added. Section 69 prohibits the Commission from licensing the transfer, delivery, receipt possession or title, or import or export of source material if the Commission determines issuance of such a license would be inimical to the common defense and security or the health and safety of the public. This prohibition is incorporated into the general requirements located in 10 CFR 40.32(d).

References to Atomic Energy Act of 1954, secs. 83 and 84 are added because the corresponding U.S.C. citations (42 U.S.C. 2113, 2114, respectively) are already included in the central authority citation.

A reference to “Uranium Mill Tailings Radiation Control Act of 1978, sec. 104 (42 U.S.C. 7914)” is added to correct an inadvertent omission. A citation to this Act is appropriate because the Uranium Mill Tailings and Radiation Control Act of 1978 (UMTRCA) addresses the long-term surveillance and monitoring of Title I and Title II uranium mill tailings disposal sites. Title I sites are processing sites that were generally not subject to a specific NRC license. Under Section 104 (42 U.S.C. 7914) of UMTRCA, the NRC is authorized to impose a license on any entity, including the U.S. Department of Energy, that acquires title to or leases all or any portion of a Title I site. Title II sites are licensed under the NRC's Atomic Energy Act, Section 83 authority, which is already included in the authority citation for this part.

Remove from citation. The reference to “Atomic Energy Act of 1954 sec. 11(e)(2) (42 U.S.C. 2014(e)(2))” is removed because this subsection does not substantively grant authority to the NRC, but simply defines uranium mill tailings and waste as source material. Authority to license source material is found in other provisions of the Atomic Energy Act, which are already included in the authority citation.

10 CFR Part 50

Add to citation. A reference to “Atomic Energy Act of 1954, sec. 187 (42 U.S.C. 2237)” is added. Section 187 provides that the terms and conditions of all licenses shall be subject to amendment, revision, or modification, by reason of amendments of the Atomic Energy Act, or by reason of rules and regulations issued in accordance with the Atomic Energy Act. This statutory condition is incorporated within 10 CFR 50.54.

A reference to “Sec. 109, Pub. L. 96-295, 94 Stat. 783” is added to the general citation for 10 CFR part 50. This law, which was not codified in the U.S.C., directed the NRC to take certain actions regarding emergency preparedness and power reactor operating license issuances, which are now reflected in 10 CFR part 50.

Remove from citation. References to Energy Reorganization Act of 1974 secs. 203 and 204 (42 U.S.C. 5843 and 5844) are removed. These statutes created the Office of Nuclear Reactor Regulation and the Office of Nuclear Material Safety and Safeguards, respectively. While these offices have responsibilities under 10 CFR part 50, in order to maintain consistency with the rest of 10 CFR, the NRC is no longer citing statutes creating individual offices outside of 10 CFR part 1, “Statement of organization and general information.” These statutory delegations of authority overlap with the Commission's already existing authority to delegate responsibilities to officers of the agency under Section 161 of the Atomic Energy Act.

10 CFR Part 51

Remove from citation. References to Atomic Energy Act secs. 274 and 1701 (42 U.S.C. 2021 and 2297f) are removed. Section 274 provides the Commission with authority for the Agreement State program and Section 1701 provides the Commission with authority to regulate gaseous diffusion uranium enrichment facilities. While these statutes are referenced within the categorical exclusions of 10 CFR 51.22, they do not provide substantive authority with respect to 10 CFR part 51.

The reference to “Energy Reorganization Act of 1974 sec. 211 (42 U.S.C. 5851)” is removed because this section is inapplicable to this part. There are no Employee Protection regulations in 10 CFR part 51.

The reference to “Pub. L. 95-604, Title II, 92 Stat. 3033-3041” is removed. This citation refers to Title II of UMTRCA, which amended Atomic Energy Act of 1954, secs. 11, 83, 84, 161, 274, 275. All of these statutes are either already included in the central authority citation or do not provide substantive authority for 10 CFR part 51, which is the NRC's implementation of the National Environmental Policy Act of 1969 (NEPA). Although 10 CFR part 51 is consistent with UMTRCA, it does not provide substantive authority for the part.

10 CFR Part 52

Add to citation. A reference to “42 U.S.C. 2231” is added because the corresponding reference to Atomic Energy Act of 1954, sec. 181 is already included in the central authority citation.

10 CFR Part 54

Add to citation. A reference to “Energy Reorganization Act of 1974, sec. 206” is added because the corresponding U.S.C. citation (42 U.S.C. 5846) is already included in the central authority citation.

Remove from citation. The reference to “42 U.S.C. 2135” is removed because it is a typographical error.

10 CFR Part 55

Add to citation. A reference to “Atomic Energy Act of 1954, sec. 183 (42 U.S.C. 2233)” is added. Section 183 provides the Commission with authority to prescribe the form, terms, and conditions of licenses by rule or regulation.

10 CFR Part 60

Remove from citation. The reference to the EPAct (“Energy Policy Act of 2005, Public Law 109-58, 119 Stat. 594 (2005)”) is removed. The EPAct was first added to the 10 CFR part 60 citation in a 2008 rulemaking that modified the requirements for the protection of Safeguards Information (SGI) (73 FR 63546; October 24, 2008). Specifically, the EPAct amended section 149 of the Atomic Energy Act of 1954 to require fingerprinting for a broader class of persons before granting them access to SGI. Section 60.42 of 10 CFR states that licensees shall protect SGI against unauthorized disclosure in accordance with the requirements in 10 CFR part 73; the authority citation for 10 CFR part 73 includes the appropriate citation to Section 149 of the Atomic Energy Act of 1954. Therefore, rather than convert the citation from the EPAct to Section 149 of the Atomic Energy Act, the NRC is removing the citation altogether because it is redundant.

10 CFR Part 61

Remove from citation. The reference to “42 U.S.C. 2021a” is removed because the action described in this section of a 1979 appropriations bill no longer applies to the NRC.

The reference to “Energy Reorganization Act of 1974 sec. 202 (42 U.S.C. 5842)” is removed because this section is inapplicable to this part, as land disposal facilities are not listed among the facilities in the statute.

10 CFR Part 62

Add to citation. A reference to “Low-Level Radioactive Waste Policy Amendments Act of 1985, sec. 6 (42 U.S.C. 2021f)” is added because the statute provides direct authority for the regulations in 10 CFR part 62.

Remove from citation. The references to Atomic Energy Act of 1954 secs. 81 and 274 (42 U.S.C. 2021) are removed. Part 62 of 10 CFR concerns criteria and procedures for emergency access to certain low-level waste disposal facilities. Section 81 of the Atomic Energy Act of 1954 provides the Commission with authority to license byproduct material, and Section 274 provides authority for the Agreement States program. Both statutes are relevant in the context of the regulation of low-level waste disposal facilities, but neither provide substantive authority for the promulgation of 10 CFR part 62.

The reference to “Energy Reorganization Act of 1974 sec 209 (42 U.S.C. 5849)” is removed from the general citation. Section 209 establishes the office of the Executive Director for Operations. As previously stated, the NRC is only citing to such organizational statutes in 10 CFR part 1, “Statement of organization and general information.”

10 CFR Part 63

Add to citation. References to Atomic Energy Act of 1954, secs. 223 and 234 (42 U.S.C. 2273 and 2282) are added because these statutes provide authority for the “Criminal Penalties” and “Violations” sections, respectively, of 10 CFR part 63, subpart J.

Remove from citation. The reference to the EPAct (“Energy Policy Act of 2005, Public Law 109-58, 119 Stat. 594 (2005)”) is removed. The EPAct was first added to the 10 CFR part 63 citation in a 2008 rulemaking that modified the requirements for the protection of SGI (73 FR 63,546; Oct. 24, 2008). Specifically, the EPAct amended Section 149 of the Atomic Energy Act of 1954 to require fingerprinting for a broader class of persons before granting them access to SGI. Section 63.42 of 10 CFR states that licensees shall protect SGI against unauthorized disclosure in accordance with the requirements in 10 CFR part 73; the authority citation for 10 CFR part 73 includes the appropriate citation to Section 149 of the Atomic Energy Act of 1954. Therefore, rather than convert the citation from the EPAct to Section 149 of the Atomic Energy Act, the NRC is removing the citation altogether because it is redundant.

10 CFR Part 70

Add to citation. A reference to “Atomic Energy Act of 1954, sec. 1701” is added because the central authority citation already refers to the corresponding U.S.C. citation (42 U.S.C. 2297f).

Remove from citation. The reference to “Energy Reorganization Act of 1974 sec. 204” is removed (the corresponding U.S.C. citation erroneously refers to “42 U.S.C. 5845,” which is also removed). Section 204 establishes the Office of Nuclear Material Safety and Safeguards (NMSS) and provides a list of functions the Office shall perform as delegated by the Commission. While NMSS does perform functions within 10 CFR part 70, this authority largely overlaps with the Commission's already existing authority to delegate functions to other officers under Atomic Energy Act of 1954, sec. 161 (42 U.S.C. 2201). As previously stated, the NRC is only citing to statutes creating individual NRC offices within 10 CFR part 1, “Statement of Organization and General Information.”

Remove from citation. The reference to the EPAct (“Energy Policy Act of 2005, Public Law 109-58, 119 Stat. 594 (2005)”) is removed. The EPAct was first added to the 10 CFR part 70 citation in a 2008 rulemaking that modified the requirements for the protection of SGI (73 FR 63,546; October 24, 2008). Specifically, the EPAct amended Section 149 of the Atomic Energy Act of 1954 to require fingerprinting for a broader class of persons before granting them access to SGI. Section 70.32 of 10 CFR states that licensees shall protect SGI against unauthorized disclosure in accordance with the requirements in 10 CFR part 73; the authority citation for 10 CFR part 73 includes the appropriate citation to Section 149 of the Atomic Energy Act of 1954. Therefore, rather than convert the citation from the EPAct to Section 149 of the Atomic Energy Act, the NRC is removing the citation altogether because it is redundant.

10 CFR Part 71

Remove from citation. The reference to the EPAct (“Energy Policy Act of 2005, Public Law 109-58, 119 Stat. 594 (2005)”) is removed. The EPAct was first added to the 10 CFR part 71 citation in a 2008 rulemaking that modified the requirements for the protection of SGI (73 FR 63,546; October 24, 2008). Specifically, the EPAct amended Section 149 of the Atomic Energy Act of 1954 to require fingerprinting for a broader class of persons before granting them access to SGI. Section 71.11 of 10 CFR states that licensees shall protect SGI against unauthorized disclosure in accordance with the requirements in 10 CFR part 73; the authority citation for 10 CFR part 73 includes the appropriate citation to Section 149 of the Atomic Energy Act of 1954. Therefore, rather than convert the citation from the EPAct to Section 149 of the Atomic Energy Act, the NRC is removing the citation altogether because it is redundant.

10 CFR Part 72

Remove from citation. The references to the Nuclear Waste Policy Act of 1982 secs. 131 and 142(b) (42 U.S.C. 10151 and 10162(b)) are removed because they do not provide substantive authority to the NRC. Section 131 is a Congressional declaration of the “Findings and Purposes” behind the Interim Storage Program found in Subtitle B of the Nuclear Waste Policy Act of 1982. The Commission's substantive authority to regulate interim storage of spent nuclear fuel is located elsewhere in the Nuclear Waste Policy Act of 1982. Section 142(b) authorizes the Secretary of the U.S. Department of Energy to site, construct, and operate a monitored retrievable storage facility. The NRC's authority to license such a facility derives from Energy Reorganization Act of 1974, sec. 202 and Nuclear Waste Policy Act of 1982, sec. 148, both of which are already included in the general citation.

The reference to the EPAct (“Energy Policy Act of 2005, Public Law 109-58, 119 Stat. 594 (2005)”) is removed. The EPAct was first added to the 10 CFR part 72 citation in a 2008 rulemaking that modified the requirements for the protection of SGI (73 FR 63,546; October 24, 2008). Specifically, the EPAct amended Section 149 of the Atomic Energy Act of 1954 to require fingerprinting for a broader class of persons before granting them access to SGI. Sections 72.44 and 72.212 of 10 CFR state that licensees shall protect SGI against unauthorized disclosure in accordance with the requirements in 10 CFR part 73; the authority citation for 10 CFR part 73 includes the appropriate citation to Section 149 of the Atomic Energy Act of 1954. Therefore, rather than convert the citation from the EPAct to Section 149 of the Atomic Energy Act, the NRC is removing the citation altogether because it is redundant.

10 CFR Part 73

Add to citation. A reference to “Atomic Energy Act of 1954, sec. 149” is added because the central authority citation already includes a reference to the accompanying U.S.C. citation (42 U.S.C. 2169).

A reference to Energy Reorganization Act of 1974 sec. 202 (42 U.S.C. 5842) is added because the scope of part 73 includes the Department of Energy facilities listed in that statute.

Remove from citation. The reference to “Energy Reorganization Act of 1974 sec. 204 (42 U.S.C. 5844)” is removed. Section 204 establishes NMSS and provides a list of functions the office shall perform as delegated by the Commission. While NMSS does perform functions within 10 CFR part 73, this authority largely overlaps with the Commission's already existing authority to delegate functions to other officers under Atomic Energy Act of 1954, sec. 161 (42 U.S.C. 2201). As previously stated, the NRC is only citing to statutes creating individual NRC offices within 10 CFR part 1, “Statement of Organization and General Information.”

The reference to “42 U.S.C. 2210(e)” in the string of Atomic Energy Act of 1954 citations is removed because this is a typographical error. The correct citation to “42 U.S.C. 2210e” is now included.

10 CFR Part 74

Remove from citation. The reference to “Atomic Energy Act of 1954 sec. 183 (42 U.S.C. 2233)” is removed. Section 183 provides the Commission with authority to prescribe the form, terms, and conditions of licenses by rule or regulation. Part 74 of 10 CFR contains requirements for licensees but does not provide for the issuance of licenses. The parts of 10 CFR that do provide for the issuance of licenses that are subject to 10 CFR part 74 (e.g., 10 CFR part 70) already reference Section 183 as authority. Therefore, it is redundant to cite to Section 183 in parts that do not provide for the issuance of licenses.

The reference to “Energy Reorganization Act of 1974 sec. 206 (42 U.S.C. 5846)” is removed. Section 206 requires individual directors or responsible officers of firms constructing, owning, operating, or supplying components for any facility or activity licensed or regulated by the NRC to report defects or failures to comply that may create substantial safety hazards. Part 74 of 10 CFR establishes control and accounting requirements for licensees of special nuclear material. While the same licensed activity can be subject to both 10 CFR part 74 control and accounting requirements and Section 206 reporting requirements, the Atomic Energy Act is the substantive authority for the promulgation of 10 CFR part 74.

10 CFR Part 75

Add to citation. A reference to “Nuclear Waste Policy Act, sec. 141” is added because the central authority citation already includes a reference to the accompanying U.S.C. citation (42 U.S.C. 10161).

A reference to “Atomic Energy Act of 1954, sec. 1701 (42 U.S.C. 2297f)” is added because 10 CFR part 75 imposes requirements on certificate holders for gaseous diffusion plants.

10 CFR Part 76

Remove from citation. The reference to Atomic Energy Act of 1954 sec. 1312 (42 U.S.C. 2297b-11) is removed because this section of the Act has been repealed.

The reference to “Energy Reorganization Act sec. 204” is removed (the accompanying U.S.C. reference, which erroneously cites “42 U.S.C. 5842,” is also removed). Section 204 creates NMSS and provides a list of functions the office shall perform as delegated by the Commission. While NMSS does perform functions within 10 CFR part 76, this authority largely overlaps with the Commission's already existing authority to delegate functions to other officers under Atomic Energy Act of 1954, sec. 161 (42 U.S.C. 2201). As previously stated, the NRC is only citing to statutes creating individual NRC offices within 10 CFR part 1, “Statement of Organization and General Information.”

The reference to the EPAct (“Energy Policy Act of 2005, Public Law 109-58, 119 Stat. 594 (2005)”) is removed. The EPAct was first added to the 10 CFR part 76 citation in a 2008 rulemaking that modified the requirements for the protection of SGI (73 FR 63546; October 24, 2008). Specifically, the EPAct amended Section 149 of the Atomic Energy Act of 1954 to require fingerprinting for a broader class of persons before granting them access to SGI. Subpart E of 10 CFR part 76 states that the requirements to protect SGI against unauthorized disclosure are located in 10 CFR part 73; the authority citation for 10 CFR part 73 includes the appropriate citation to Section 149 of the Atomic Energy Act of 1954. Therefore, rather than convert the citation from the EPAct to Section 149 of the Atomic Energy Act, the NRC is removing the citation altogether because it is redundant.

10 CFR Part 95

Remove from citation. “E.O. 13526, 3 CFR, 2010 Comp., pp. 298-327” is removed because the same Executive Order is erroneously cited as authority twice.

10 CFR Part 110

Add to citation. References to Atomic Energy Act of 1954, secs. 62 and 124 are added because the central authority citation already includes a reference to the accompanying U.S.C. citation (42 U.S.C. 2092 and 2154, respectively).

A reference to “Atomic Energy Act of 1954, sec. 133 (42 U.S.C. 2160c)” is added to the central authority citation because this provides the Commission authority to issue licenses for the export of special nuclear material described within the statute.

Amend citation. The “also issued under” citations for the various paragraphs of Section 110(b) have been consolidated into one “also issued under citation.” A reference to “50 App. U.S.C. 2401 et seq.” is added to provide further statutory authority for export license exceptions under the Export Administration Act regulations overseen by the U.S. Department of Commerce. A reference to “22 U.S.C. 2778a” is also added to provide citation to the proper authorizing statute for the exception listed in this section.

References to “42 U.S.C. 2139a” and “42 U.S.C. 2155a” are being removed from the string of Atomic Energy Act of 1954 citations and included as separate citations in the central authority citation. Sections 2139a and 2155a were enacted as part of the Nuclear Non-Proliferation Act of 1978, and not part of the Atomic Energy Act of 1954.

Remove from citation. The reference to Section 554 of the Administrative Procedure Act, which contains the requirements for on-the-record hearings, is removed from the additional citation to §§ 110.80-110.113 because 42 U.S.C. 2155a provides that, notwithstanding Atomic Energy Act of 1954, sec. 189, an on-the-record hearing is not required for export license proceedings. Therefore, that section does not provide authority for §§ 110.80-110.113.

10 CFR Part 150

Add to citation. A reference to “Atomic Energy Act of 1954, sec. 274” is added because the central authority citation already includes a reference to the accompanying U.S.C. citation (42 U.S.C. 2021). Similarly, a reference to “Nuclear Waste Policy Act of 1982, sec. 141” is added because the central authority citation already includes a reference to the accompanying U.S.C. citation (42 U.S.C. 10161).

Remove from citation. The reference to “Atomic Energy Act of 1954 sec. 11(e)(2) (42 U.S.C. 2014(e)(2))” is removed because this subsection does not substantively grant authority to the NRC, but simply defines uranium mill tailings and waste as source material. Authority to license source material is found in other provisions of the Atomic Energy Act, which are already included in the authority citation.

10 CFR Part 171

Remove from citation. The reference to “42 U.S.C. 2213” is removed because it was repealed in 2006 by Section 637 of the EPAct.

III. Rulemaking Procedure

Under the Administrative Procedure Act (5 U.S.C. 553(b)), an agency may waive the normal notice and comments requirements if it finds, for good cause, that they are impracticable, unnecessary, or contrary to the public interest. The NRC finds that notice and comment for these amendments are unnecessary because the changes made in this rulemaking are non-substantive formatting edits or corrective changes to typographical errors and inadvertent omissions to authority citations. No substantive text in the regulations is being amended. These amendments require no action by any person or entity regulated by the NRC, nor do they alter any substantive rights, responsibilities, or obligations. Soliciting public comments on these changes would not affect the scope and nature of the revisions because they must reflect the current legal authority that provides a basis for the Commission's regulations. Therefore, the NRC finds good cause that notice and comment is unnecessary, and is exercising its authority under 5 U.S.C. 553(b)(B) to publish these amendments as a final rule without the opportunity for public comment. Furthermore, for the reasons previously stated, the NRC finds, pursuant to 5 U.S.C. 553(d)(3), that good cause exists to make this rule effective upon publication.

IV. Environmental Impact: Categorical Exclusion

The NRC has determined that this final rule is the type of action described in categorical exclusion 10 CFR 51.22(c)(2), which excludes from a major action rules that are corrective or of a minor or nonpolicy nature and do not substantially modify existing regulations. Therefore, neither an environmental impact statement nor an environmental assessment has been prepared for this rule.

V. Paperwork Reduction Act Statement

This final rule does not contain information collection requirements and, therefore, is not subject to the Paperwork Reduction Act of 1995 (44 U.S.C. 3501 et seq.).

Public Protection Notification

The NRC may not conduct or sponsor, and a person is not required to respond to, a request for information or an information collection requirement unless the requesting document displays a currently valid Office of Management and Budget control number.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VII. Backfitting and Issue Finality

The NRC has determined that the administrative changes in the final rule do not constitute backfitting and are not inconsistent with any of the issue finality provisions in 10 CFR part 52, and therefore a backfit analysis is not included. The revisions are administrative in nature, including revisions to authority citation formatting and typographical corrections. They impose no new requirements and make no substantive changes to the regulations. The revisions do not involve any provisions that would impose backfits as defined in 10 CFR chapter I, or would be inconsistent with the issue finality provisions in 10 CFR part 52. For these reasons, the issuance of the rule in final form would not constitute backfitting or represent an inconsistency with any of the issue finality provisions in 10 CFR part 52. Therefore, the NRC has not prepared any additional documentation for this rulemaking addressing backfitting or issue finality.

List of Subjects

2 CFR Part 2000

Administrative practice and procedure, Debarment and suspension, Grant programs, Reporting and recordkeeping requirements.

5 CFR Part 5801

Conflict of interests, Government employees.

10 CFR Part 1

Flags, Organization and functions (Government agencies), Seals and insignia.

10 CFR Part 2

Administrative practice and procedure, Antitrust, Byproduct material, Classified information, Confidential business information; Freedom of information, Environmental protection, Hazardous waste, Nuclear energy, Nuclear materials, Nuclear power plants and reactors, Penalties, Reporting and recordkeeping requirements, Sex discrimination, Source material, Special nuclear material, Waste treatment and disposal.

10 CFR Part 4

Administrative practice and procedure, Aged, Blind, Buildings, Civil rights, Employment, Equal employment opportunity, Federal aid programs, Federal buildings and facilities, Grant programs, Handicapped, Individuals with disabilities, Loan programs, Reporting and recordkeeping requirements, Sex discrimination.

10 CFR Part 7

Advisory committees, Sunshine Act.

10 CFR Part 9

Administrative practice and procedure, Courts, Criminal penalties, Freedom of information, Government employees, Privacy, Reporting and recordkeeping requirements, Sunshine Act.

10 CFR Part 10

Administrative practice and procedure, Classified information, Government employees, Security measures.

10 CFR Part 11

Hazardous materials transportation, Investigations, Nuclear energy, Nuclear materials, Penalties, Reporting and recordkeeping requirements, Security measures, Special nuclear material.

10 CFR Part 12

Adversary adjudications, Award, Claims, Equal access to justice, Final disposition, Fraud, Net worth, Party, Penalties.

10 CFR Part 13

Administrative practice and procedure, Claims, Fraud, Organization and function (Government agencies), Penalties.

10 CFR Part 14

Administrative practice and procedure, Claims, Tort claims.

10 CFR Part 15

Administrative practice and procedure, Claims, Debt collection.

10 CFR Part 16

Administrative practice and procedure, Debt collection, Government employees, Wages.

10 CFR Part 19

Criminal penalties, Environmental protection, Nuclear energy, Nuclear materials, Nuclear power plants and reactors, Occupational safety and health, Penalties, Radiation protection, Reporting and recordkeeping requirements, Sex discrimination.

10 CFR Part 20

Byproduct material, Criminal penalties, Hazardous waste, Licensed material, Nuclear energy, Nuclear materials, Nuclear power plants and reactors, Occupational safety and health, Packaging and containers, Penalties, Radiation protection, Reporting and recordkeeping requirements, Source material, Special nuclear material, Waste treatment and disposal.

10 CFR Part 21

Nuclear power plants and reactors, Penalties, Radiation protection, Reporting and recordkeeping requirements.

10 CFR Part 25

Classified information, Criminal penalties, Investigations, Penalties, Reporting and recordkeeping requirements, Security measures.

10 CFR Part 26

Administrative practice and procedure, Alcohol abuse, Alcohol testing, Appeals, Chemical testing, Drug abuse, Drug testing, Employee assistance programs, Fitness for duty, Management actions, Nuclear power plants and reactors, Privacy, Protection of information, Radiation protection, Reporting and recordkeeping requirements.

10 CFR Part 30

Byproduct material, Criminal penalties, Government contracts, Intergovernmental relations, Isotopes, Nuclear energy, Nuclear materials, Penalties, Radiation protection, Reporting and recordkeeping requirements, Whistleblowing.

10 CFR Part 31

Byproduct material, Criminal penalties, Labeling, Nuclear energy, Nuclear materials, Packaging and containers, Penalties, Radiation protection, Reporting and recordkeeping requirements, Scientific equipment.

10 CFR Part 32

Byproduct material, Criminal penalties, Labeling, Nuclear energy, Nuclear materials, Radiation protection, Reporting and recordkeeping requirements.

10 CFR Part 33

Byproduct material, Criminal penalties, Nuclear energy, Nuclear materials, Penalties, Radiation protection, Reporting and recordkeeping requirements.

10 CFR Part 34

Criminal penalties, Manpower training programs, Occupational safety and health, Packaging and containers, Penalties, Radiation protection, Radiography, Reporting and recordkeeping requirements, Scientific equipment, Security measures, X-rays.

10 CFR Part 35

Biologics, Byproduct material, Criminal penalties, Drugs, Health facilities, Health professions, Labeling, Medical devices, Nuclear energy, Nuclear materials, Occupational safety and health, Penalties, Radiation protection, Reporting and recordkeeping requirements.

10 CFR Part 36

Byproduct material, Criminal penalties, Nuclear energy, Nuclear materials, Radiation protection, Reporting and recordkeeping requirements, Scientific equipment, Security measures.

10 CFR Part 37

Byproduct material, Criminal penalties, Exports, Hazardous materials transportation, Imports, Licensed material, Nuclear materials, Penalties, Radioactive materials, Reporting and recordkeeping requirements, Security measures.

10 CFR Part 39

Byproduct material, Criminal penalties, Labeling, Nuclear energy, Nuclear material, Occupational safety and health, Oil and gas exploration—well logging, Penalties, Radiation protection, Reporting and recordkeeping requirements, Scientific equipment, Security measures, Source material, Special nuclear material.

10 CFR Part 40

Criminal penalties, Exports, Government contracts, Hazardous materials transportation, Hazardous waste, Nuclear energy, Nuclear materials, Penalties, Reporting and recordkeeping requirements, Source material, Uranium, Whistleblowing.

10 CFR Part 50

Administrative practice and procedure, Antitrust, Classified information, Criminal penalties, Education, Fire prevention, Fire protection, Incorporation by reference, Intergovernmental relations, Nuclear power plants and reactors, Penalties, Radiation protection, Reactor siting criteria, Reporting and recordkeeping requirements, Whistleblowing.

10 CFR Part 51

Administrative practice and procedure, Environmental impact statements, Hazardous waste, Nuclear energy, Nuclear materials, Nuclear power plants and reactors, Reporting and recordkeeping requirements.

10 CFR Part 52

Administrative practice and procedure, Antitrust, Backfitting, Combined license, Early site permit, Emergency planning, Fees, Inspection, Limited work authorization, Nuclear power plants and reactors, Probabilistic risk assessment, Prototype, Reactor siting criteria, Redress of site, Penalties, Reporting and recordkeeping requirements, Standard design, Standard design certification, Incorporation by reference.

10 CFR Part 54

Administrative practice and procedure, Age-related degradation, Backfitting, Classified information, Criminal penalties, Environmental protection, Nuclear power plants and reactors, Penalties, Radiation protection, Reporting and recordkeeping requirements.

10 CFR Part 55

Criminal penalties, Manpower training programs, Nuclear power plants and reactors, Penalties, Reporting and recordkeeping requirements.

10 CFR Part 60

Criminal penalties, Hazardous waste, Indians, High-level waste, Intergovernmental relations, Nuclear energy, Nuclear materials, Nuclear power plants and reactors, Penalties, Radiation protection, Reporting and recordkeeping requirements, Waste treatment and disposal, Whistleblowing.

10 CFR Part 61

Criminal penalties, Hazardous waste, Indians, Intergovernmental relations, Low-level waste, Nuclear energy, Nuclear materials, Penalties, Reporting and recordkeeping requirements, Waste treatment and disposal, Whistleblowing.

10 CFR Part 62

Administrative practice and procedure, Denial of access, Emergency access to low-level waste disposal, Hazardous waste, Intergovernmental relations, Low-level radioactive waste, Low-level radioactive waste treatment and disposal, Nuclear energy, Nuclear materials, Radiation protection, Reporting and recordkeeping requirements.

10 CFR Part 63

Criminal penalties, Hazardous waste, High-level waste, Indians, Intergovernmental relations, Nuclear energy, Nuclear power plants and reactors, Penalties, Radiation protection, Reporting and recordkeeping requirements, Waste treatment and disposal.

10 CFR Part 70

Classified information, Criminal penalties, Emergency medical services, Hazardous materials transportation, Material control and accounting, Nuclear energy, Nuclear materials, Packaging and containers, Penalties, Radiation protection, Reporting and recordkeeping requirements, Scientific equipment, Security measures, Special nuclear material, Whistleblowing.

10 CFR Part 71

Criminal penalties, Hazardous materials transportation, Intergovernmental relations, Nuclear materials, Packaging and containers, Penalties, Radioactive materials, Reporting and recordkeeping requirements.

10 CFR Part 72

Administrative practice and procedure, Criminal penalties, Hazardous waste, Indians, Intergovernmental relations, Manpower training programs, Nuclear energy, Nuclear materials, Occupational safety and health, Penalties, Radiation protection, Reporting and recordkeeping requirements, Security measures, Spent fuel, Whistleblowing.

10 CFR Part 73

Criminal penalties, Exports, Hazardous materials transportation, Imports, Nuclear energy, Nuclear materials, Nuclear power plants and reactors, Penalties, Reporting and recordkeeping requirements, Security measures.

10 CFR Part 74

Accounting, Criminal penalties, Hazardous materials transportation, Material control and accounting, Nuclear energy, Nuclear materials, Packaging and containers, Penalties, Radiation protection, Reporting and recordkeeping requirements, Scientific equipment, Special nuclear material.

10 CFR Part 75

Criminal penalties, Intergovernmental relations, Nuclear energy, Nuclear materials, Nuclear power plants and reactors, Penalties, Reporting and recordkeeping requirements, Security measures, Treaties.

10 CFR Part 76

Certification, Criminal penalties, Nuclear energy, Penalties, Radiation protection, Reporting and recordkeeping requirements, Security measures, Special nuclear material, Uranium, Uranium enrichment by gaseous diffusion.

10 CFR Part 81

Administrative practice and procedure, Inventions and patents, Reporting and recordkeeping requirements.

10 CFR Part 95

Classified information, Criminal penalties, Penalties, Reporting and recordkeeping requirements, Security measures.

10 CFR Part 100

Nuclear power plants and reactors, Radiation protection, Reactor siting criteria, Reporting and recordkeeping requirements.

10 CFR Part 110

Administrative practice and procedure, Classified information, Criminal penalties, Exports, Imports, Intergovernmental relations, Nuclear energy, Nuclear materials, Nuclear power plants and reactors, Penalties, Reporting and recordkeeping requirements, Scientific equipment.

10 CFR Part 140

Criminal penalties, Extraordinary nuclear occurrence, Insurance, Intergovernmental relations, Nuclear materials, Nuclear power plants and reactors, Penalties, Reporting and recordkeeping requirements.

10 CFR Part 150

Criminal penalties, Hazardous materials transportation, Intergovernmental relations, Nuclear energy, Nuclear materials, Penalties, Reporting and recordkeeping requirements, Security measures, Source material, Special nuclear material.

10 CFR Part 160

Federal buildings and facilities, Penalties, Security measures.

10 CFR Part 170

Byproduct material, Import and export licenses, Intergovernmental relations, Non-payment penalties, Nuclear energy, Nuclear materials, Nuclear power plants and reactors, Source material, Special nuclear material.

10 CFR Part 171

Annual charges, Byproduct material, Holders of certificates, registrations, approvals, Intergovernmental relations, Nonpayment penalties, Nuclear materials, Nuclear power plants and reactors, Source material, Special nuclear material.

For the reasons set out in the preamble and under the authority of the Atomic Energy Act of 1954, as amended; the Energy Reorganization Act of 1974, as amended; and 5 U.S.C. 552 and 553, the NRC is adopting the following amendments to 2 CFR part 2000; 5 CFR part 5801; and 10 CFR parts 1, 2, 4, 7, 9, 10, 11, 12, 13, 14, 15, 16, 19, 20, 21, 25, 26, 30, 31, 32, 33, 34, 35, 36, 37, 39, 40, 50, 51, 52, 54, 55, 60, 61, 62, 63, 70, 71, 72, 73, 74, 75, 76, 81, 95, 100, 110, 140, 150, 160, 170, and 171.

2 CFR CHAPTER XX—UNITED STATES NUCLEAR REGULATORY COMMISSION

PART 2000—NONPROCUREMENT DEBARMENT AND SUSPENSION

1. The authority citation for part 2000 is revised to read as follows:

Authority: 5 U.S.C. 301; Sec. 2455, Pub. L. 103-355, 108 Stat. 3327 (31 U.S.C. 6101 note); E.O. 12549, 51 FR 6370, 3 CFR, 1986 Comp., p. 189; E.O. 12689, 54 FR 34131, 3 CFR, 1989 Comp., p. 235.

5 CFR CHAPTER XLVIII—NUCLEAR REGULATORY COMMISSION

PART 5801—SUPPLEMENTAL STANDARDS OF ETHICAL CONDUCT FOR EMPLOYEES OF THE NUCLEAR REGULATORY COMMISSION

2. The authority citation for part 5801 is revised to read as follows:

Authority: 5 U.S.C. 7301; 5 U.S.C. Appendix (Ethics in Government Act of 1978); Atomic Energy Act of 1954, sec. 161 (42 U.S.C. 2201); Energy Reorganization Act of 1974, sec. 201 (42 U.S.C. 5841); E.O. 12674, 54 FR 15159, 3 CFR, 1989 Comp., p. 215, as modified by E.O. 12731, 55 FR 42547, 3 CFR, 1990 Comp., p. 306; 5 CFR 2635.105, 2635.403, 2635.803.

10 CFR CHAPTER I—NUCLEAR REGULATORY COMMISSION

PART 1—STATEMENT OF ORGANIZATION AND GENERAL INFORMATION

3. The authority citation for part 1 is revised to read as follows:

Authority: Atomic Energy Act of 1954, secs. 23, 25, 29, 161, 191 (42 U.S.C. 2033, 2035, 2039, 2201, 2241); Energy Reorganization Act of 1974, secs. 201, 203, 204, 205, 209 (42 U.S.C. 5841, 5843, 5844, 5845, 5849); Administrative Procedure Act (5 U.S.C. 552, 553); Reorganization Plan No. 1 of 1980, 5 U.S.C. Appendix (Reorganization Plans).

PART 2—AGENCY RULES OF PRACTICE AND PROCEDURE

4. The authority citation for part 2 is revised to read as follows:

Authority: Atomic Energy Act of 1954, secs. 29, 53, 62, 63, 81, 102, 103, 104, 105, 161, 181, 182, 183, 184, 186, 189, 191, 234 (42 U.S.C. 2039, 2073, 2092, 2093, 2111, 2132, 2133, 2134, 2135, 2201, 2231, 2232, 2233, 2234, 2236, 2239, 2241, 2282); Energy Reorganization Act of 1974, secs. 201, 206 (42 U.S.C. 5841, 5846); Nuclear Waste Policy Act of 1982, secs. 114(f), 134, 135, 141 (42 U.S.C. 10134(f), 10154, 10155, 10161); Administrative Procedure Act (5 U.S.C. 552, 553, 554, 557, 558); National Environmental Policy Act of 1969 (42 U.S.C. 4332); 44 U.S.C. 3504 note.

Section 2.205(j) also issued under Sec. 31001(s), Pub. L. 104-134, 110 Stat. 1321-373 (28 U.S.C. 2461 note).

PART 4—NONDISCRIMINATION IN FEDERALLY ASSISTED PROGRAMS OR ACTIVITIES RECEIVING FEDERAL FINANCIAL ASSISTANCE FROM THE COMMISSION

5. The authority citation for part 4 is revised to read as follows:

Authority: Atomic Energy Act of 1954, secs. 161, 223, 234, 274 (42 U.S.C. 2201, 2273, 2282, 2021); Energy Reorganization Act of 1974, secs. 201, 401 (42 U.S.C. 5841, 5891); 29 U.S.C. 794; 42 U.S.C. 12101 et seq.; 44 U.S.C. 3504 note.

Subpart A also issued under 42 U.S.C. 2000d through d-7.

Subpart B also issued under 29 U.S.C. 706.

Subpart C also issued under 42 U.S.C. 6101 through 6107.

PART 7—ADVISORY COMMITTEES

6. The authority citation for part 7 is revised to read as follows:

Authority: Atomic Energy Act of 1954, sec. 161 (42 U.S.C. 2201); Energy Reorganization Act of 1974, sec. 201 (42 U.S.C. 5841); 5 U.S.C. Appendix (Federal Advisory Committee Act).

PART 9—PUBLIC RECORDS

7. The authority citation for part 9 is revised to read as follows:

Authority: Atomic Energy Act of 1954, sec. 161 (42 U.S.C. 2201); Energy Reorganization Act of 1974, sec. 201 (42 U.S.C. 5841); 44 U.S.C. 3504 note.

Subpart A also issued under 31 U.S.C. 9701.

Subpart B also issued under 5 U.S.C. 552a.

Subpart C also issued under 5 U.S.C. 552b.

PART 10—CRITERIA AND PROCEDURES FOR DETERMINING ELIGIBILITY FOR ACCESS TO RESTRICTED DATA OR NATIONAL SECURITY INFORMATION OR AN EMPLOYMENT CLEARANCE

8. The authority citation for part 10 is revised to read as follows:

Authority: Atomic Energy Act of 1954, secs. 145, 161 (42 U.S.C. 2165, 2201); Energy Reorganization Act of 1974, sec. 201 (42 U.S.C. 5841); E.O. 10450, 18 FR 2489, 3 CFR, 1949-1953 Comp., p. 936, as amended; E.O. 10865, 25 FR 1583, 3 CFR, 1959-1963 Comp., p. 398, as amended; E.O. 12968, 60 FR 40245, 3 CFR, 1995 Comp., p. 391.

PART 11—CRITERIA AND PROCEDURES FOR DETERMINING ELIGIBILITY FOR ACCESS TO OR CONTROL OVER SPECIAL NUCLEAR MATERIAL

9. The authority citation for part 11 is revised to read as follows:

Authority: Atomic Energy Act of 1954, secs. 161, 223 (42 U.S.C. 2201, 2273); Energy Reorganization Act of 1974, sec. 201 (42 U.S.C. 5841); 44 U.S.C. 3504 note.

Section 11.15(e) also issued under 31 U.S.C. 9701; 42 U.S.C. 2214.

PART 12—IMPLEMENTATION OF THE EQUAL ACCESS TO JUSTICE ACT IN AGENCY PROCEEDINGS

10. The authority citation for part 12 is revised to read as follows:

Authority: 5 U.S.C. 504(c)(1).

PART 13—PROGRAM FRAUD CIVIL REMEDIES

11. The authority citation for part 13 is revised to read as follows:

Authority: 31 U.S.C. 3801 through 3812; 44 U.S.C. 3504 note.

Section 13.13 also issued under Sec. 31001(s), Pub. L. 104-134, 110 Stat. 1321-373 (28 U.S.C. 2461 note); 31 U.S.C. 3730.

PART 14—ADMINISTRATIVE CLAIMS UNDER FEDERAL TORT CLAIMS ACT

12. The authority citation for part 14 is revised to read as follows:

Authority: 28 U.S.C. 2672, 2679; Atomic Energy Act of 1954, sec. 161 (42 U.S.C. 2201); Energy Reorganization Act of 1974, sec. 201 (42 U.S.C. 5841); 28 CFR 14.11.

PART 15—DEBT COLLECTION PROCEDURES

13. The authority citation for part 15 is revised to read as follows:

Authority: Atomic Energy Act of 1954, secs. 161, 186 (42 U.S.C. 2201, 2236); Energy Reorganization Act of 1974, sec. 201 (42 U.S.C. 5841); 5 U.S.C. 5514; 26 U.S.C. 6402; 31 U.S.C. 3701, 3713, 3716, 3719, 3720A; 42 U.S.C. 664; 44 U.S.C. 3504 note; 31 CFR parts 900 through 904; 31 CFR part 285; E.O. 12146, 44 FR 42657, 3 CFR, 1979 Comp., p. 409; E.O. 12988, 61 FR 4729, 3 CFR, 1996 Comp., p. 157.

PART 16—SALARY OFFSET PROCEDURES FOR COLLECTING DEBTS OWED BY FEDERAL EMPLOYEES TO THE FEDERAL GOVERNMENT

14. The authority citation for part 16 is revised to read as follows:

Authority: Atomic Energy Act of 1954, sec. 161 (42 U.S.C. 2201), Energy Reorganization Act of 1974, sec. 201 (42 U.S.C. 5841); 31 U.S.C. 3711, 3716, 3717, 3718; 5 U.S.C. 5514; Pub. L. 97-365, 96 Stat. 1749; 4 CFR parts 101 through 105; 5 CFR 550.1101 through 550.1108.

PART 19—NOTICES, INSTRUCTIONS AND REPORTS TO WORKERS: INSPECTION AND INVESTIGATIONS

15. The authority citation for part 19 is revised to read as follows:

Authority: Atomic Energy Act of 1954, secs. 53, 63, 81, 103, 104, 161, 223, 234, 1701 (42 U.S.C. 2073, 2093, 2111, 2133, 2134, 2201, 2273, 2282, 2297f); Energy Reorganization Act of 1974, secs. 201, 211, 401 (42 U.S.C. 5841, 5851, 5891); 44 U.S.C. 3504 note.

PART 20—STANDARDS FOR PROTECTION AGAINST RADIATION

16. The authority citation for part 20 is revised to read as follows:

Authority: Atomic Energy Act of 1954, secs. 11, 53, 63, 65, 81, 103, 104, 161, 182, 186, 223, 234, 274, 1701 (42 U.S.C. 2014, 2073, 2093, 2095, 2111, 2133, 2134, 2201, 2232, 2236, 2273, 2282, 2021, 2297f); Energy Reorganization Act of 1974, secs. 201, 202 (42 U.S.C. 5841, 5842); Low-Level Radioactive Waste Policy Amendments Act of 1985, sec. 2 (42 U.S.C. 2021b); 44 U.S.C. 3504 note.

PART 21—REPORTING OF DEFECTS AND NONCOMPLIANCE

17. The authority citation for part 21 is revised to read as follows:

Authority: Atomic Energy Act of 1954, secs. 53, 63, 81, 103, 104, 161, 223, 234, 1701 (42 U.S.C. 2073, 2093, 2111, 2133, 2134, 2201, 2273, 2282, 2297f); Energy Reorganization Act of 1974, secs. 201, 206 (42 U.S.C. 5841, 5846); Nuclear Waste Policy Act of 1982, secs. 135, 141 (42 U.S.C. 10155, 10161); 44 U.S.C. 3504 note.

PART 25—ACCESS AUTHORIZATION

18. The authority citation for part 25 is revised to read as follows:

Authority: Atomic Energy Act of 1954, secs. 145, 161, 223, 234 (42 U.S.C. 2165, 2201, 2273, 2282); Energy Reorganization Act of 1974, sec. 201 (42 U.S.C. 5841); 44 U.S.C. 3504 note; E.O. 10865, 25 FR 1583, as amended, 3 CFR, 1959-1963 Comp., p. 398; E.O. 12829, 58 FR 3479, 3 CFR, 1993 Comp., p. 570; E.O. 13526, 75 FR 707, 3 CFR, 2009 Comp., p. 298; E.O. 12968, 60 FR 40245, 3 CFR, 1995 Comp., p. 391.

Section 25.17(f) and Appendix A also issued under 31 U.S.C. 9701; 42 U.S.C. 2214.

PART 26—FITNESS FOR DUTY PROGRAMS

19. The authority citation for part 26 is revised to read as follows:

Authority: Atomic Energy Act of 1954, secs. 53, 103, 104, 107, 161, 223, 234, 1701 (42 U.S.C. 2073, 2133, 2134, 2137, 2201, 2273, 2282, 2297f); Energy Reorganization Act of 1974, secs. 201, 202 (42 U.S.C. 5841, 5842); 44 U.S.C. 3504 note.

PART 30—RULES OF GENERAL APPLICABILITY TO DOMESTIC LICENSING OF BYPRODUCT MATERIAL

20. The authority citation for part 30 is revised to read as follows:

Authority: Atomic Energy Act of 1954, secs. 11, 81, 161, 181, 182, 183, 184, 186, 187, 223, 234, 274 (42 U.S.C. 2014, 2111, 2201, 2231, 2232, 2233, 2234, 2236, 2237, 2273, 2282, 2021); Energy Reorganization Act of 1974, secs. 201, 202, 206, 211 (42 U.S.C. 5841, 5842, 5846, 5851); 44 U.S.C. 3504 note.

PART 31—GENERAL DOMESTIC LICENSES FOR BYPRODUCT MATERIAL

21. The authority citation for part 31 is revised to read as follows:

Authority: Atomic Energy Act of 1954, secs. 81, 161, 183, 223, 234, 274 (42 U.S.C. 2111, 2201, 2233, 2273, 2282, 2021); Energy Reorganization Act of 1974, secs. 201, 202, 206 (42 U.S.C. 5841, 5842, 5846); 44 U.S.C. 3504 note.

PART 32—SPECIFIC DOMESTIC LICENSES TO MANUFACTURE OR TRANSFER CERTAIN ITEMS CONTAINING BYPRODUCT MATERIAL

22. The authority citation for part 32 is revised to read as follows:

Authority: Atomic Energy Act of 1954, secs. 81, 161, 181, 182, 183, 223, 234, 274 (42 U.S.C. 2111, 2201, 2231, 2232, 2233, 2273, 2282, 2021); Energy Reorganization Act of 1974, sec. 201 (42 U.S.C. 5841); 44 U.S.C. 3504 note.

PART 33—SPECIFIC DOMESTIC LICENSES OF BROAD SCOPE FOR BYPRODUCT MATERIAL

23. The authority citation for part 33 is revised to read as follows:

Authority: Atomic Energy Act of 1954, secs. 81, 161, 181, 182, 183, 223, 234, 274 (42 U.S.C. 2111, 2201, 2231, 2232, 2233, 2273, 2282, 2021); Energy Reorganization Act of 1974, sec. 201 (42 U.S.C. 5841); 44 U.S.C. 3504 note.

PART 34—LICENSES FOR INDUSTRIAL RADIOGRAPHY AND RADIATION SAFETY REQUIREMENTS FOR INDUSTRIAL RADIOGRAPHIC OPERATIONS

24. The authority citation for part 34 is revised to read as follows:

Authority: Atomic Energy Act of 1954, secs. 81, 161, 181, 182, 183, 223, 234, 274 (42 U.S.C. 2111, 2201, 2231, 2232, 2233, 2273, 2282, 2021); Energy Reorganization Act of 1974, secs. 201, 206 (42 U.S.C. 5841, 5846); 44 U.S.C. 3504 note.

PART 35—MEDICAL USE OF BYPRODUCT MATERIAL

25. The authority citation for part 35 is revised to read as follows:

Authority: Atomic Energy Act of 1954, secs. 81, 161, 181, 182, 183, 223, 234, 274 (42 U.S.C. 2111, 2201, 2231, 2232, 2233, 2273, 2282, 2021); Energy Reorganization Act of 1974, secs. 201, 206 (42 U.S.C. 5841, 5846); 44 U.S.C. 3504 note.

PART 36—LICENSES AND RADIATION SAFETY REQUIREMENTS FOR IRRADIATORS

26. The authority citation for part 36 is revised to read as follows:

Authority: Atomic Energy Act of 1954, secs. 81, 161, 181, 182, 183, 223, 234, 274 (42 U.S.C. 2111, 2112, 2201, 2231, 2233, 2273, 2282, 2021); Energy Reorganization Act of 1974, secs. 201, 206 (42 U.S.C. 5841, 5846); 44 U.S.C. 3504 note.

PART 37—PHYSICAL PROTECTION OF CATEGORY 1 AND CATEGORY 2 QUANTITIES OF RADIOACTIVE MATERIAL

27. The authority citation for part 37 is revised to read as follows:

Authority: Atomic Energy Act of 1954, secs. 11, 53, 81, 103, 104, 147, 148, 149, 161, 182, 183, 223, 234, 274 (42 U.S.C. 2014, 2073, 2111, 2133, 2134, 2167, 2168, 2169, 2201, 2232, 2233, 2273, 2282, 2021); Energy Reorganization Act of 1974, secs. 201, 202 (42 U.S.C. 5841, 5842); 44 U.S.C. 3504 note.

PART 39—LICENSES AND RADIATION SAFETY REQUIREMENTS FOR WELL LOGGING

28. The authority citation for part 39 is revised to read as follows:

Authority: Atomic Energy Act of 1954, secs. 53, 57, 62, 63, 65, 69, 81, 161, 181, 182, 183, 223, 234 (42 U.S.C. 2073, 2077, 2092, 2093, 2095, 2099, 2111, 2112, 2201, 2232, 2233, 2273, 2282); Energy Reorganization Act of 1974, secs. 201, 206 (42 U.S.C. 5841, 5846); 44 U.S.C. 3504 note.

PART 40—DOMESTIC LICENSING OF SOURCE MATERIAL

29. The authority citation for part 40 is revised to read as follows:

Authority: Atomic Energy Act of 1954, secs. 62, 63, 64, 65, 69, 81, 83, 84, 122, 161, 181, 182, 183, 184, 186, 187, 193, 223, 234, 274, 275 (42 U.S.C. 2092, 2093, 2094, 2095, 2099, 2111, 2113, 2114, 2152, 2201, 2231, 2232, 2233, 2234, 2236, 2237, 2243, 2273, 2282, 2021, 2022); Energy Reorganization Act of 1974, secs. 201, 202, 206, 211 (42 U.S.C. 5841, 5842, 5846, 5851); Uranium Mill Tailings Radiation Control Act of 1978, sec. 104 (42 U.S.C. 7914); 44 U.S.C. 3504 note.

PART 50—DOMESTIC LICENSING OF PRODUCTION AND UTILIZATION FACILITIES

30. The authority citation for part 50 is revised to read as follows:

Authority: Atomic Energy Act of 1954, secs. 11, 101, 102, 103, 104, 105, 108, 122, 147, 149, 161, 181, 182, 183, 184, 185, 186, 187, 189, 223, 234 (42 U.S.C. 2014, 2131, 2132, 2133, 2134, 2135, 2138, 2152, 2167, 2169, 2201, 2231, 2232, 2233, 2234, 2235, 2236, 2237, 2239, 2273, 2282); Energy Reorganization Act of 1974, secs. 201, 202, 206, 211 (42 U.S.C. 5841, 5842, 5846, 5851); Nuclear Waste Policy Act of 1982, sec. 306 (42 U.S.C. 10226); National Environmental Policy Act of 1969 (42 U.S.C. 4332); 44 U.S.C. 3504 note; Sec. 109, Pub. L. 96-295, 94 Stat. 783.

PART 51—ENVIRONMENTAL PROTECTION REGULATIONS FOR DOMESTIC LICENSING AND RELATED REGULATORY FUNCTIONS

31. The authority citation for part 51 is revised to read as follows:

Authority: Atomic Energy Act of 1954, secs. 161, 193 (42 U.S.C. 2201, 2243); Energy Reorganization Act of 1974, secs. 201, 202 (42 U.S.C. 5841, 5842); National Environmental Policy Act of 1969 (42 U.S.C. 4332, 4334, 4335); Nuclear Waste Policy Act of 1982, secs. 144(f), 121, 135, 141, 148 (42 U.S.C. 10134(f), 10141, 10155, 10161, 10168); 44 U.S.C. 3504 note.

PART 52—LICENSES, CERTIFICATIONS, AND APPROVALS FOR NUCLEAR POWER PLANTS

32. The authority citation for part 52 is revised to read as follows:

Authority: Atomic Energy Act of 1954, secs. 103, 104, 147, 149, 161, 181, 182, 183, 185, 186, 189, 223, 234 (42 U.S.C. 2133, 2134, 2167, 2169, 2201, 2231, 2232, 2233, 2235, 2236, 2239, 2273, 2282); Energy Reorganization Act of 1974, secs. 201, 202, 206, 211 (42 U.S.C. 5841, 5842, 5846, 5851); 44 U.S.C. 3504 note.

PART 54—REQUIREMENTS FOR RENEWAL OF OPERATING LICENSES FOR NUCLEAR POWER PLANTS

33. The authority citation for part 54 is revised to read as follows:

Authority: Atomic Energy Act of 1954, secs. 102, 103, 104, 161, 181, 182, 183, 186, 189, 223, 234 (42 U.S.C. 2132, 2133, 2134, 2136, 2137, 2201, 2231, 2232, 2233, 2236, 2239, 2273, 2282); Energy Reorganization Act of 1974, secs. 201, 202, 206 (42 U.S.C. 5841, 5842, 5846); 44 U.S.C. 3504 note.

Section 54.17 also issued under E.O.12829, 58 FR 3479, 3 CFR, 1993 Comp., p. 570; E.O. 13526, 75 FR 707, 3 CFR, 2009 Comp., p. 298; E.O. 12968, 60 FR 40245, 3 CFR, 1995 Comp., p. 391.

PART 55—OPERATORS' LICENSES

34. The authority citation for part 55 is revised to read as follows:

Authority: Atomic Energy Act of 1954, secs. 107, 161, 181, 182, 183, 186, 187, 223, 234 (42 U.S.C. 2137, 2201, 2231, 2232, 2233, 2236, 2237, 2273, 2282); Energy Reorganization Act of 1974, secs. 201, 202 (42 U.S.C. 5841, 5842); Nuclear Waste Policy Act of 1982, sec. 306 (42 U.S.C. 10226); 44 U.S.C. 3504 note.

PART 60—DISPOSAL OF HIGH-LEVEL RADIOACTIVE WASTES IN GEOLOGIC REPOSITORIES

35. The authority citation for part 60 is revised to read as follows:

Authority: Atomic Energy Act of 1954, secs. 51, 53, 62, 63, 65, 81, 161, 182, 183, 223, 234 (42 U.S.C. 2071, 2073, 2092, 2093, 2095, 2111, 2201, 2232, 2233, 2273, 2282); Energy Reorganization Act of 1974, secs. 201, 202, 206, 211 (42 U.S.C. 5841, 5842, 5846, 5851); 42 U.S.C. 2021a; National Environmental Policy Act of 1969 (42 U.S.C. 4332); Nuclear Waste Policy Act of 1982, secs. 114, 117, 121 (42 U.S.C. 10134, 10137, 10141), 44 U.S.C. 3504 note.

PART 61—LICENSING REQUIREMENTS FOR LAND DISPOSAL OF RADIOACTIVE WASTE

36. The authority citation for part 61 is revised to read as follows:

Authority: Atomic Energy Act of 1954, secs. 53, 57, 62, 63, 65, 81, 161, 181, 182, 183, 223, 234 (42 U.S.C. 2073, 2077, 2092, 2093, 2095, 2111, 2201, 2231, 2232, 2233, 2273, 2282); Energy Reorganization Act of 1974, secs. 201, 206, 211 (42 U.S.C. 5841, 5846, 5851); Low-Level Radioactive Waste Policy Amendments Act of 1985, sec. 2 (42 U.S.C. 2021b); 44 U.S.C. 3504 note.

PART 62—CRITERIA AND PROCEDURES FOR EMERGENCY ACCESS TO NON-FEDERAL AND REGIONAL LOW-LEVEL WASTE DISPOSAL FACILITIES

37. The authority citation for part 62 is revised to read as follows:

Authority: Atomic Energy Act of 1954, sec. 161 (42 U.S.C. 2201); Energy Reorganization Act of 1974, secs. 201 (42 U.S.C. 5841); Low-Level Radioactive Waste Policy Amendments Act of 1985, secs. 2, 6 (42 U.S.C. 2021b, 2021f); 44 U.S.C. 3504 note.

PART 63—DISPOSAL OF HIGH-LEVEL RADIOACTIVE WASTES IN A GEOLOGIC REPOSITORY AT YUCCA MOUNTAIN, NEVADA

38. The authority citation for part 63 is revised to read as follows:

Authority: Atomic Energy Act of 1954, secs. 51, 53, 62, 63, 65, 81, 161, 182, 183, 223, 234 (42 U.S.C. 2071, 2073, 2092, 2093, 2095, 2111, 2201, 2232, 2233, 2273, 2282); Energy Reorganization Act of 1974, secs. 201, 202, 206, 211 (42 U.S.C. 5841, 5842, 5846, 5851); 42 U.S.C. 2021a; National Environmental Policy Act of 1969 (42 U.S.C. 4332); Nuclear Waste Policy Act of 1982, secs. 114, 117, 121 (42 U.S.C. 10134, 10137, 10141); 44 U.S.C. 3504 note.

PART 70—DOMESTIC LICENSING OF SPECIAL NUCLEAR MATERIAL

39. The authority citation for part 70 is revised to read as follows:

Authority: Atomic Energy Act of 1954, secs. 51, 53, 57(d), 108, 122, 161, 182, 183, 184, 186, 187, 193, 223, 234, 274, 1701 (42 U.S.C. 2071, 2073, 2077(d), 2138, 2152, 2201, 2232, 2233, 2234, 2236, 2237, 2243, 2273, 2282, 2021, 2297f); Energy Reorganization Act of 1974, secs. 201, 202, 206, 211 (42 U.S.C. 5841, 5842, 5846, 5851); Nuclear Waste Policy Act of 1982, secs. 135, 141 (42 U.S.C. 10155, 10161); 44 U.S.C. 3504 note.

PART 71—PACKAGING AND TRANSPORTATION OF RADIOACTIVE MATERIAL

40. The authority citation for part 71 is revised to read as follows:

Authority: Atomic Energy Act of 1954, secs. 53, 57, 62, 63, 81, 161, 182, 183, 223, 234, 1701 (42 U.S.C. 2073, 2077, 2092, 2093, 2111, 2201, 2232, 2233, 2273, 2282, 2297f); Energy Reorganization Act of 1974, secs. 201, 202, 206, 211 (42 U.S.C. 5841, 5842, 5846, 5851); Nuclear Waste Policy Act of 1982, sec. 180 (42 U.S.C. 10175); 44 U.S.C. 3504 note.

Section 71.97 also issued under Sec. 301, Pub. L. 96-295, 94 Stat. 789 (42 U.S.C. 5841 note).

PART 72—LICENSING REQUIREMENTS FOR THE INDEPENDENT STORAGE OF SPENT NUCLEAR FUEL, HIGH-LEVEL RADIOACTIVE WASTE, AND REACTOR-RELATED GREATER THAN CLASS C WASTE

41. The authority citation for part 72 is revised to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

PART 73—PHYSICAL PROTECTION OF PLANTS AND MATERIALS

42. The authority citation for part 73 is revised to read as follows:

Authority: Atomic Energy Act of 1954, secs. 53, 147, 149, 161, 170D, 170E, 170H, 170I, 223, 234, 1701 (42 U.S.C. 2073, 2167, 2169, 2201, 2210d, 2210e, 2210h, 2210i, 2273, 2282, 2297f); Energy Reorganization Act of 1974, secs. 201, 202 (42 U.S.C. 5841, 5842); Nuclear Waste Policy Act of 1982, secs. 135, 141 (42 U.S.C. 10155, 10161); 44 U.S.C. 3504 note.

Section 73.37(f) also issued under Sec. 301, Pub. L. 96-295, 94 Stat. 789 (42 U.S.C. 5841 note).

PART 74—MATERIAL CONTROL AND ACCOUNTING OF SPECIAL NUCLEAR MATERIAL

43. The authority citation for part 74 is revised to read as follows:

Authority: Atomic Energy Act of 1954, secs. 53, 57, 161, 182, 223, 234, 1701 (42 U.S.C. 2073, 2077, 2201, 2232, 2273, 2282, 2297f); Energy Reorganization Act of 1974, secs. 201, 202 (42 U.S.C. 5841, 5842); 44 U.S.C. 3504 note.

PART 75—SAFEGUARDS ON NUCLEAR MATERIAL—IMPLEMENTATION OF US/IAEA AGREEMENT

44. The authority citation for part 75 is revised to read as follows:

Authority: Atomic Energy Act of 1954, secs. 53, 63, 103, 104, 122, 161, 223, 234, 1701 (42 U.S.C. 2073, 2093, 2133, 2134, 2152, 2201, 2273, 2282, 2297f); Energy Reorganization Act of 1974, sec. 201 (42 U.S.C. 5841); Nuclear Waste Policy Act of 1982, secs. 135, 141 (42 U.S.C. 10155, 10161); 44 U.S.C. 3504 note.

PART 76—CERTIFICATION OF GASEOUS DIFFUSION PLANTS

45. The authority citation for part 76 is revised to read as follows:

Authority: Atomic Energy Act of 1954, secs. 122, 161, 193(f), 223, 234, 1701 (42 U.S.C. 2152, 2201, 2243(f), 2273, 2282, 2297f); Energy Reorganization Act of 1974, secs. 201, 206, 211 (42 U.S.C. 5841, 5846, 5851); 44 U.S.C. 3504 note.

PART 81—STANDARD SPECIFICATIONS FOR THE GRANTING OF PATENT LICENSES

46. The authority citation for part 81 is revised to read as follows:

Authority: Atomic Energy Act of 1954, secs. 156, 161 (42 U.S.C. 2186, 2201); Energy Reorganization Act of 1974, sec. 201 (42 U.S.C. 5841); 44 U.S.C. 3504 note.

PART 95—FACILITY SECURITY CLEARANCE AND SAFEGUARDING OF NATIONAL SECURITY INFORMATION AND RESTRICTED DATA

47. The authority citation for part 95 is revised to read as follows:

Authority: Atomic Energy Act of 1954, secs. 145, 161, 223, 234 (42 U.S.C. 2165, 2201, 2273, 2282); Energy Reorganization Act of 1974, sec. 201 (42 U.S.C. 5841); 44 U.S.C. 3504 note; E.O. 10865, as amended, 25 FR 1583, 3 CFR, 1959-1963 Comp., p. 398; E.O. 12829, 58 FR 3479, 3 CFR, 1993 Comp., p. 570; E.O. 12968, 60 FR 40245, 3 CFR, 1995 Comp., p. 391; E.O. 13526 75 FR 707, 3 CFR, 2009 Comp., p. 298.

PART 100—REACTOR SITE CRITERIA

48. The authority citation for part 100 is revised to read as follows:

Authority: Atomic Energy Act of 1954, secs. 103, 104, 161, 182 (42 U.S.C. 2133, 2134, 2201, 2232); Energy Reorganization Act of 1974, secs. 201, 202 (42 U.S.C. 5841, 5842); 44 U.S.C. 3504 note.

PART 110—EXPORT AND IMPORT OF NUCLEAR EQUIPMENT AND MATERIAL

49. The authority citation for part 110 is revised to read as follows:

Authority: Atomic Energy Act of 1954, secs. 11, 51, 53, 54, 57, 62, 63, 64, 65, 81, 82, 103, 104, 109, 111, 121, 122, 123, 124, 126, 127, 128, 129, 133, 134, 161, 170H., 181, 182, 183, 184, 186, 187, 189, 223, 234 (42 U.S.C. 2014, 2071, 2073, 2074, 2077, 2092, 2093, 2094, 2095, 2111, 2112, 2133, 2134, 2139, 2141, 2151, 2152, 2153, 2154, 2155, 2156, 2157, 2158, 2160c, 2160d, 2201, 2210h, 2231, 2232, 2233, 2234, 2236, 2237, 2239, 2273, 2282); Energy Reorganization Act of 1974, sec. 201 (42 U.S.C. 5841); Administrative Procedure Act (5 U.S.C. 552, 553); 42 U.S.C. 2139a, 2155a; 44 U.S.C. 3504 note.

Section 110.1(b) also issued under 22 U.S.C. 2403; 22 U.S.C. 2778a; 50 App. U.S.C. 2401 et seq.

PART 140—FINANCIAL PROTECTION REQUIREMENTS AND INDEMNITY AGREEMENTS

50. The authority citation for part 140 is revised to read as follows:

Authority: Atomic Energy Act of 1954, secs. 161, 170, 223, 234 (42 U.S.C. 2201, 2210, 2273, 2282); Energy Reorganization Act of 1974, secs. 201, 202 (42 U.S.C. 5841, 5842); 44 U.S.C. 3504 note.

PART 150—EXEMPTIONS AND CONTINUED REGULATORY AUTHORITY IN AGREEMENT STATES AND IN OFFSHORE WATERS UNDER SECTION 274

51. The authority citation for part 150 is revised to read as follows:

Authority: Atomic Energy Act of 1954, secs. 11, 53, 81, 83, 84, 122, 161, 181, 223, 234, 274 (42 U.S.C. 2014, 2201, 2231, 2273, 2282, 2021); Energy Reorganization Act of 1974, sec. 201 (42 U.S.C. 5841); Nuclear Waste Policy Act of 1982, secs. 135, 141 (42 U.S.C. 10155, 10161); 44 U.S.C. 3504 note.

PART 160—TRESPASSING ON COMMISSION PROPERTY

52. The authority citation for part 160 is revised to read as follows:

Authority: Atomic Energy Act of 1954, secs. 161, 223, 229, 234 (42 U.S.C. 2201, 2273, 2278a, 2282); Energy Reorganization Act of 1974, sec. 201 (42 U.S.C. 5841).

PART 170—FEES FOR FACILITIES, MATERIALS, IMPORT AND EXPORT LICENSES, AND OTHER REGULATORY SERVICES UNDER THE ATOMIC ENERGY ACT OF 1954, AS AMENDED

53. The authority citation for part 170 is revised to read as follows:

Authority: Atomic Energy Act of 1954, secs. 11, 161(w) (42 U.S.C. 2014, 2201(w)); Energy Reorganization Act of 1974, sec. 201 (42 U.S.C. 5841); 42 U.S.C. 2214; 31 U.S.C. 901, 902, 9701; 44 U.S.C. 3504 note.

PART 171—ANNUAL FEES FOR REACTOR LICENSES AND FUEL CYCLE LICENSES AND MATERIAL LICENSES, INCLUDING HOLDERS OF CERTIFICATES OF COMPLIANCE, REGISTRATIONS, AND QUALITY ASSURANCE PROGRAM APPROVALS AND GOVERNMENT AGENCIES LICENSED BY THE NRC

54. The authority citation for part 171 is revised to read as follows:

Authority: Atomic Energy Act of 1954, secs. 11, 161(w), 223, 234 (42 U.S.C. 2014, 2201(w), 2273, 2282); Energy Reorganization Act of 1974, sec. 201 (42 U.S.C. 5841); 42 U.S.C. 2214; 44 U.S.C. 3504 note.

Dated at Rockville, Maryland, this 1st day of September, 2015.
For the Nuclear Regulatory Commission.
Cindy Bladey,
Chief, Rules, Announcements, and Directives Branch, Division of Administrative Services, Office of Administration.

[FR Doc. 2015-22517 Filed 9-8-15; 8:45 am]

BILLING CODE 7590-01-P